DEPARTMENT OF THE INTERIOR

National Park Service

Announcement of Meeting

AGENCY: National Park Service, Interior.

ACTION: Denali National Park Service Subsistence Resource Commission meeting announcement.

SUMMARY: The National Park Service (NPS) announces that the Denali National Park Subsistence Resource Commission (SRC) will conduct a public meeting. The purpose of the meeting is to develop and continue work on subsistence hunting program recommendations and other related subsistence management issues. The meeting will have time allocated for public testimony. The public is welcomed to present written or oral comments to the SRC.

The Denali National Park SRC program is authorized under Title VIII, Section 808, of the Alaska National Interest Lands Conservation Act, Pub. L. 96-487, to operate in accordance with the provisions of the Federal Advisory Committee Act. Draft meeting minutes will be available upon request from each Superintendent for public inspection approximately six weeks after each meeting.

DATES: The Denali National Park SRC will meet on Monday, February 26, 2007, from 8 a.m. to 5 p.m. This will be a one day meeting.

Location: The meeting will be held at the Motel Nord Haven Conference Room located in Healy, Alaska, at mile 249.5 Parks Highway, telephone (907) 683-4500.

FOR FURTHER INFORMATION CONTACT: Phillip Hooge, Deputy Superintendent, telephone: (907) 683-9581, E-mail: phillip_hooge@nps.gov or Amy Craver, Subsistence Manager, telephone: (907) 683-9544, and E-mail: amy_craver@nps.gov. Draft minutes of the meeting will be available for public inspection approximately four weeks after the meeting.

SUPPLEMENTARY INFORMATION: SRC meeting location and date may need to be changed based on weather or local circumstances. If the meeting date or location is changed, notice of the meeting will be published in local newspapers and announced on local radio stations prior to the meeting date.

The tentative agenda for the meeting includes the following:

1. Call to order (SRC Chair).

2. SRC Roll Call and Confirmation of Quorum.

3. SRC Chair and Superintendent's Welcome and Introductions.

4. Review and Approve Agenda.

5. Review and adopt minutes from last meeting.

6. Status of SRC Membership—If needed, hold elections for SRC Chair and Vice Chair. The SRC charter requires officer elections annually.

7. Public and other agency comments.

8. Old Business

a. Cantwell Off-Road Vehicle Management Environmental Assessment

b. Request to evaluate customary and traditional use determination for off-road vehicle use in Kantishna.

c. Alaska Railroad Herbicide Spraying.

9. New Business

a. Federal Subsistence Board wildlife and fisheries proposals for 2007-2008.

b. Alaska Board of Game actions and wildlife proposals.

c. Wolf harvest in Kantishna.

d. Moose harvest in Wildlife Management Unit 16B.

e. Denali Resource Stewardship Strategy.

f. Cultural and Subsistence Program Updates.

10. Agency and Public Comments.

11. SRC Work Session. Prepare correspondence and hunting program recommendations.

12. Set time and place of next SRC meeting.

13. Adjournment.

Dated: February 1, 2007.
Victor Knox,
Deputy Regional Director, Alaska Region.

[FR Doc. E7-3310 Filed 2-26-07; 8:45 am]

BILLING CODE 4310-PF-P